FEDERAL EMERGENCY MANAGEMENT AGENCY

44 CFR Part 65

[Docket No. FEMA-7313]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program.

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4. National Environmental Policy Act. This rule is categorically excluded from the requirements of 44 CFR Part 10, Environmental Consideration. No environmental impact assessment has been prepared.

Regulatory Flexibility Act. The Associate Director, Mitigation Directorate, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification. This interim rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama: Morgan | City of Decatur | Jan. 25, 2000, Feb. 1, 2000, The Decatur Daily News | The Honorable Julian Price, mayor of the city of Decatur, P.O. Box 488, Decatur, Alabama 35602 | May 1, 2000 | 010176 D
Georgia: Gwinnett | Unincorporated areas | Dec. 3, 1999, Dec. 10, 1999, Gwinnett Daily Post | Mr. Wayne Hill, chairman of the Gwinnett County, Board of Commissioners, 751 Langley Drive, Lawrenceville, Georgia 30045 | Mar. 9, 1999 | 130322 C
Illinois:
Cook and DuPage | Village of Burr Ridge | Mar. 29, 2000, Apr. 5, 2000, Suburban Life News | Ms. Jo V. Irmen, Village of Burr Ridge President, 7660 County Line Road, Burr Bridge, Illinois 60521 | July 4, 2000 | 170071 B
DuPage | Unincorporated areas | Mar. 10, 2000, Mar. 17, 2000, Daily Herald | Mr. Robert J. Schillerstrom, chairman, DuPage County Board, DuPage Center, 421 North County Farm Road, Wheaton, Illinois 60187 | Mar. 3, 2000 | 170197 B
Lake | Village of Green Oaks | Aug. 12, 2000, Aug. 19, 2000, The Daily Herald | Mr. Thomas Adams, president of the Village of Green Oaks, 14052 Petronella, Suite 102B, Green Oaks, Illinois 60048-1547 | July 18, 2000 | 170364 F
Will | City of Joliet | Dec. 3, 1999, Dec. 10, 1999, The Herald-News | The Honorable Arthur Schultz, mayor of the city of Joliet, Municipal Building, 150 West Jefferson Street, Joliet, Illinois 60432 | Mar. 9, 2000 | 170702 E
Lake | Unincorporated areas | Apr. 12, 2000, Apr. 19, 2000, The News-Sun | Mr. Jim LaBelle, chairman of the Lake County Board, 18 North County Street, 10th Floor, Waukepan, Illinois 60085 | July 18, 2000 | 170357 F
Will and Cook | Village of Tinley Park | Mar. 8, 2000, Mar. 15, 2000, Daily Southtown | The Honorable Edward J. Zabrocki, mayor of the Village of Tinley Park, 16250 South Oak Park Avenue, Tinley Park, Illinois 60477 | Mar. 31, 2000 | 170169 C
DuPage | Village of Winfield | Mar. 30, 2000, Apr. 6, 2000, The Winfield Press | Mr. John Kirschbaum, president of the Village of Winfield, 27 W. 465 Jewel Road, Winfield, Illinois 60190 | July 5, 2000 | 170223 C
Will | Unincorporated areas | Dec. 3, 1999, Dec. 10, 1999, The Herald-News | Mr. Charles R. Adelman, Will County Executive, 302 North Chicago Street, Joliet, Illinois 60432 | Mar. 9, 2000 | 170695 E
Indiana:
Marion | City of Indianapolis | Apr. 5, 2000, Apr. 12, 2000, The Indianapolis Star | The Honorable Barton Peterson, mayor of the city of Indianapolis, 200 East Washington Street, Suite 2501, Indianapolis, Indiana 46204 | Mar. 30, 2000 | 180159 D
Johnson | Unincorporated areas | Mar. 27, 2000, Apr. 3, 2000 Daily Journal | Mr. Joseph E. Dettart, chairman of the Johnson County Board of Commissioners, 86 West Court Street, Courthouse Annex, Franklin, Indiana 46131 | Mar. 20, 2000 | 180111 C
Kentucky:
Jefferson | Unincorporated areas | Nov. 19, 1999, Nov. 26, 1999, The Courier-Journal | The Honorable Rebecca Jackson, Jefferson County Judge Executive, Jefferson County Courthouse, 527 West Jefferson Street, Suite 400, Louisville, Kentucky 40202 | Nov. 10, 1999 | 210120 D
Rowan | City of Morehead | Dec. 10, 1999, Dec. 17, 1999, The Morehead News | The Honorable Bradley Collins, mayor of the city of Morehead, 105 East Main Street, Morehead, Kentucky 40351 | Mar. 16, 2000 | 210204 B
Rowan | Unincorporated areas | Dec. 10, 1999, Dec. 17, 1999, The Morehead News | Mr. Clyde A. Thomas, county executive for Rowan County, 127 East Main Street, Morehead, Kentucky 40351 | Mar. 16, 2000 | 210203 B
Michigan: Macomb | Charter Township of Clinton | Mar. 31, 2000, Apr. 7, 2000, The Macomb Daily | Mr. James Sinnamon, Charter Township of Clinton Supervisor, 40700 Romeo Plank Road, Clinton, Michigan 48038 | July 6, 2000 | 260121 E
New Hampshire: Coos | Town of Gorham | Dec. 9, 1999, Dec. 16, 1999, The Berlin Reporter | Mr. William H. Jackson, Manager of the Town of Gorham, 20 Park Street, Gorham, New Hampshire 03581 | Dec. 1, 1999 | 330032 C
North Carolina: Mecklenburg | Unincorporated areas | Jan. 21, 2000, Jan. 28, 2000, Charlotte Observer | Mr. Gerald G. Fox, Mecklenburg County Manager, 600 East 4th Street, Charlotte, North Carolina 28202-2835 | Jan. 14, 2000 | 370158 D
Ohio:
Cuyahoga | City of Garfield Heights | Mar. 16, 2000, Mar. 23, 2000, Neighborhood News | The Honorable Thomas Longo, mayor of the city of Garfield Heights, 5107 Turney Road, Garfield Heights, Ohio 44125 | June 21, 2000 | 390109 B
Pike | Unincorporated areas | Apr. 19, 2000, Apr. 26, 2000, Pike County News Watchman | Mr. Charles Osborne, chairman of the Pike County commissioners, 100 East Second Street, Waverly, Ohio 45690 | July 25, 2000 | 390450 B
Shelby | Unincorporated areas | Feb. 10, 2000, Feb. 17, 2000, The Sidney Daily News | Mr. Larry Klainhans, chairman, Shelby County Board of Commissioners, 129 East Court Street, Suite 100, Sidney, Ohio 45365 | May 17, 2000 | 390503 C
Pike | City of Waverly | Apr. 19, 2000, Apr. 26, 2000, Pike County News Watchman | The Honorable William Kelly, mayor of the city of Waverly, 201 West North Street, Waverly, Ohio 45690 | July 25, 2000 | 390452 B
Pennsylvania:
York | Township of Heidelberg | Nov. 19, 1999, Nov. 26, 1999, The Evening Sun | Mr. Harry Rodgers, chairman, township of Heidelberg, Route Number 3, Box 3447A, Spring Grove, Pennsylvania 17362 | Nov. 10, 1999 | 422221 C
York | Township of Penn | Nov. 19, 1999, Nov. 26, 1999, The Evening Sun | Mr. Frederick W. Stine, president of the Penn Township, Board of Commissioners, 20 Wayne Avenue, Hanover Pennsylvania 17331 | Nov. 10, 1999 | 421025 C
Chester | Township of Valley | Feb. 8, 2000, Feb. 15, 2000, The Daily Local News | Mr. Grover E. Koon, chairperson, Township of Valley, Board of Supervisors, P.O. Box 467, Coatesville, Pennsylvania 19320 | Feb. 1, 2000 | 421206 D
Virginia: Loudoun | Town of Leesburg | Dec. 1, 1999, Dec. 8, 1999, Loudoun Times-Mirror | The Honorable James E. Clem, mayor of the town of Leesburg, P.O. Box 88, Leesburg, Virginia 20178 | Nov. 19, 1999 | 510091 C

(Catalog of Federal Domestic Assistance No. 83.100, “Flood Insurance”)

Dated: May 16, 2000.
Michael J. Armstrong,
Associate Director for Mitigation.

[FR Doc. 00-14662 Filed 6-8-00; 8:45 am]

BILLING CODE 6718-04-P